NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by January 6, 2017. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2017-034

1. Applicant: Dr. David W. Johnston, Duke University Marine Laboratory, Beaufort, NC 28516.

Activity for Which Permit is Requested: Take; Harmful Interference; Enter Antarctic Specially Protected Area (ASPA). The applicant proposes to use unmanned aircraft systems (UAS) for photogrammetry and aerial surveys of whales and seabirds in the Antarctic Peninsula region between Charcot Island and the North Gerlache Strait, including ASPA No. 117, Avian Island, Marguerite Bay. The applicant plans to use both fixed-wing and multicopter small UAS at altitudes of 50—300 feet above the target species. Average flight times are expected to range from 12 to 35 minutes. The UAS pilots have experience appropriate for the proposed activities. The species subject to take or harmful interference as result of the proposed activity include: humpback whales (n=100 per year), minke whales (n=100 per year), Adelie penguins (n=2000 per year), Gentoo penguins (n=2000 per year), chinstrap penguins (n=500 per year), brown skua (n=50 per year), south polar skua (n=50 per year), giant petrel (n=50 per year), kelp gull (n=100 per year), blue-eyed shag (n=100 per year), snowy sheathbill (n=50 per year). The applicant currently holds a Marine Mammal Protection Act permit (14809-02) that allows for the take of the whale species in the Southern Ocean by photogrammetry and photo-identification.

Location: Antarctic Peninsula region; Torgersen Island; ASPA No. 117, Avian Island, Marguerite Bay.

Dates: January 5, 2017—March 31, 2019.

Nadene G. Kennedy,
Polar Coordination Specialist, Division of Polar Programs.

[FR Doc. 2016-29322 Filed 12-6-16; 8:45 am]

BILLING CODE 7555-01-P